DEPARTMENT OF HEALTH AND HUMAN SERVICES

Centers for Disease Control and Prevention

[Program Announcement 02125]

Cooperative Agreement for Violence Against Women Planning and Implementation; Notice of Availability of Funds

A. Purpose

The Centers for Disease Control and Prevention (CDC) announces the availability of fiscal year (FY) 2002 funds for a cooperative agreement program for planning and implementing state initiatives that address Violence Against Women (VAW). This funding opportunity was created in support of the recommendations set forth in the “Agenda for the Nation on VAW” which was developed by the National Advisory Council on VAW (refer to: http://www.4woman.gov/violence/nations.htm). This program addresses the Healthy People 2010 priority area of Injury and Violence Prevention.

The purpose of the program is to:

1. Develop effective and culturally competent initiatives that address VAW issues.

2. Foster effective community collaborations to respond to emerging policy and program issues.

3. Provide an opportunity for state health agencies to take a leadership role in addressing violence, specifically VAW to ensure these issues are raised to a public health priority within the state.

4. Facilitate the process of seeking data driven solutions to the prevention of VAW by identifying key data elements that provide compelling evidence of the impact of VAW on families and communities and gaps in data collection that can be addressed by traditional and non-traditional sources.

5. Develop a more comprehensive approach to preventing VAW through community collaboration and coalition building. The planning and implementation projects from this funding should address the intersection of risks for violence that cross the different types of violence (for example, child maltreatment as a risk for sexual violence and intimate partner violence, and identifying community approaches to support protective seeking behaviors that prevent subsequent violence).

6. Identify issues and implementation strategies that address specific challenges and barriers to VAW prevention efforts for priority populations such as racial and ethnic populations, gay and lesbian, elderly, rural or other “hard to reach” populations and women with disabilities.

For the purposes of this funding, VAW includes intimate partner violence, sexual violence by any perpetrator, and other forms of VAW committed by acquaintances or strangers.

This program consists of two parts:

Part 1: Planning—To assist recipients to: (1) Conduct an assessment of the state/territory/tribe's current VAW prevention and intervention efforts, and (2) develop a statewide action plan that addresses their intent and documents strategies to garner support for sustaining and enhancing these activities and efforts that address VAW issues.

Part 2: Implementation—To assist recipients, who have developed an action plan that addresses VAW (under CDC Program Announcements 99136 and 00119), to implement priority activities from their action agenda/plan.

Measurable outcomes of the program will be in alignment with one or more of the following performance goals for the National Center for Injury Prevention and Control:

1. Reduce VAW.

2. Enhance the capacity of states to implement effective rape prevention and education programs.

B. Eligible Applicants

Part 1: Assistance will be provided only to state health departments or their bona fide agents that have not received funds to support VAW planning activities under the CDC Program Announcements 99136 and 00119, including District of Columbia, the Commonwealth of Puerto Rico, the Virgin Islands, the Commonwealth of Northern Mariana Islands, American Samoa, Guam, Federated States of Micronesia, the Republic of the Marshall Islands, the Republic of Palau, and federally recognized Indian Tribal Governments.

Part 2: Assistance will be provided only to the state health departments or their bona fide agents that have received supplemental funds to support VAW planning activities under CDC Program Announcements 99136 and 00119.

Note: Title 2 of the United States Code section 1611 states that an organization described in section 501(c)(4) of the Internal Revenue Code that engages in lobbying activities is not eligible to receive Federal funds constituting an award, grant or loan.

C. Availability of Funds

Part 1: Planning

Approximately $1.5 million is available in FY 2002 to fund approximately 29 awards. It is expected that the average award will be $50,000.

It is expected that the awards will begin on or about September 30, 2002 and will be made for a 12-month budget period with a project period of one year.

There are no matching requirements for this program.

Use of Funds

Appropriate use of funds includes personnel (contractual, consultant, or temporary staff); support for conferences, meetings; support for writing, publishing, and disseminating the results of the plan; and travel to CDC-related training. Funds may not be used for program implementation.

Part 2: Implementation

Approximately $500,000 is available in FY 2002 to fund approximately ten awards. It is expected that the average award will be $50,000.

It is expected that the awards will begin on or about September 30, 2002 and will be made for a 12-month budget period with a project period of one year.

There are no matching requirements for this program.

Use of Funds

Appropriate use of funds includes personnel (contractual, consultant, or temporary staff); publicity and media events; development of educational or training material and curricula; conducting training workshops and conferences; and travel to CDC-related training.

Funding Preference

Priority consideration will be given to projects proposed by the state injury program or in collaboration with the state injury program for parts 1 and 2.

Pre-Application Conference Call: In addition, for interested applicants, two pre-application technical assistance calls will be held. One for VAW Planning (Part I) applicants and one for VAW Implementation (Part II) applicants. The Part I planning call will be held on Friday, June 7, 2002, from 1:00 p.m. to 2:00 p.m., Eastern Standard Time. The conference name is VAW Planning Workshop and the bridge number for the conference call is 1-800-713-1971, and the pass code is #103902. The Part II planning call will be held on Friday, June 7, 2002, from 2:30 p.m. to 3:30 p.m., Eastern Standard Time. The conference name is VAW Implementation Workshop and the bridge number for the conference call is 1-404-639-3277, and the pass code is #713668.

D. Program Requirements

In conducting activities to achieve the purpose of this program, the recipient will be responsible for the activities under 1. Recipient Activities, and CDC will be responsible for the activities listed under 2. CDC Activities.

1. Recipient Activities:

a. All applicants are required to provide Measures of Effectiveness that will demonstrate the accomplishment of the various identified objectives of the cooperative agreement. Measures must be objective/quantitative and must measure the intended outcome.

b. Develop, expand, or maintain a VAW advisory committee

c. Participate in CDC Technical Assistance activities such as conference calls, site visits, and training for cooperative agreement recipients.

d. Collaborate with CDC on national campaigns or other relevant national efforts as appropriate.

e. Submit required reports on time.

In addition, there are requirements specific to the type of funding requested:

Part I: Planning

a. Conduct an assessment of the following VAW issues:

—Policy and Research

—Prevention Programs

—Intervention Programs and Victim Services

b. Identify issues and strategies that will garner support for sustaining and enhancing future VAW prevention and intervention activities by addressing the following:

—Ongoing Collaboration and Community Involvement

—Ongoing Communication

—Evaluation

—Other Issues Associated with VAW

c. Produce and publish an action plan

Part II: Implementation

a. Review the VAW plan developed under Program Announcements 99136 and 00119 and select and carry out activities that can be implemented within the budget period.

b. Establish an evaluation plan for those activities to be implemented.

2. CDC Activities:

a. Provide technical assistance and consultation in the VAW prevention planning and implementation activities.

b. Provide resources and tools that will assist these planning and implementation efforts.

c. Provide opportunities for sharing successes and challenges.

d. Collaborate with national partners to develop protocols for state VAW related data profiles that can be used to facilitate data-driven planning and implementation.

e. Compile state/territory/tribal plans and develop and disseminate “lessons learned” to assist with future planning and implementation efforts.

E. Content

The program announcement title and number must appear in the application. Use the information in the Program Requirements and Evaluation Criteria sections to develop the application content. Your application will be evaluated on the criteria listed, so it is important to follow them in laying out your program plan. The narrative (excluding executive summary, budget narrative and any appendices) should be no more than 10 double-spaced pages, printed on one side with one inch margins, and no smaller than 12 point font. Number each page consecutively and provide a complete table of contents.

The application should consist of, at a minimum:

1. Executive Summary (one page, may be single spaced, and is not included in the Proposal Narrative page count) which briefly summarizes:

—Amount of federal assistance requested

—Key assessment, planning, and implementation activities proposed

2. Proposal Narrative (no more than 10 pages, double spaced)

—Introduction

—Statement of Need

—Goals and Objectives

—Workplan, timeline and staffing

—Collaboration

—Evaluation

3. Budget Narrative

4. Appendices, (not included in the Proposal Narrative page count) which may include letters of commitment from key collaborators.

Applicants should review and consider CDC's Assessment and Planning Tools in their VAW planning efforts. Please refer to www.cdc.gov/ncipc to review and obtain additional information on these tools.

F. Submission and Deadline

Application: Submit the original and 2 copies of PHS 5161-1 (OMB Number 0920-0428).

Forms are in the application kit and at the following Internet address: www.cdc.gov/od/pgo/forminfo.htm.

Application forms must be submitted in the following order:

Cover letter

Table of Contents

Application

Budget Information Form

Budget Justification

Checklist

Assurances

Certifications

Disclosure Form

HIV Assurance Form (if applicable)

Human Subjects Certification (if applicable)

Indirect Cost Rate Agreement (if applicable)

Narratives

On or before 5:00 p.m. Eastern Time July 12, 2002, submit the application to the: Technical Information Management Section, 2920 Brandywine Road, Suite 300, Atlanta, Georgia 30341.

Deadline: The applications shall be considered as meeting the deadline if they are received before 5:00 p.m. Eastern Time on the deadline date. Applicants sending applications by the United States Postal Service or commercial delivery services must ensure that the carrier will be able to guarantee delivery of the application by the closing date and time. If an application is received after closing due to (1) Carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet the submission requirements.

G. Evaluation Criteria

Each application will be evaluated individually against the following criteria by an independent review group appointed by CDC:

Part 1: Planning

a. Workplan, Timeline and Staffing (35 points)

A detailed description of how staffing and planning resources will be allocated and used to accomplish each objective and the overall program goals. The extent to which a clear workplan and time line is included and provides for appropriate methods of assessment, planning, and implementation. This includes the appropriate identification and use of data for planning.

The extent to which the proposed workplan and timeline are realistic, given available resources.

The extent to which the proposal identifies issues and implementation strategies that address specific challenges and barriers to VAW prevention efforts for priority populations such as, but not limited to, racial and ethnic or immigrant populations, gay and lesbian, elderly, rural or other “hard to reach” populations and women with disabilities.

b. Collaboration (25 points)

The extent to which the agencies/institutions/organizations who are named as members of the state advisory committee represent broad areas of expertise. Minimally this committee should include the state/territory/tribal agency's injury prevention department; the state or territory rape prevention and education coordinator; a representative from the state sexual assault coalition; a representative from the state domestic violence coalition; a representative from the state justice agency; and a representative from the state education department. A description of the roles and responsibilities of the member organizations, methods for making decisions, etc. should be included. The extent to which the letters of support from these organizations are included in an Appendix and demonstrate that the applicant and the other collaborating organizations have established a “working partnership” (e.g., all will have active roles in the project).

c. Evaluation (15 points)

The extent to which the applicant has provided Measures of Effectiveness that will demonstrate the accomplishment of the various identified objectives of the cooperative agreement. The extent to which these measures are objective/quantitative and measure the intended outcome.

The extent to which there is a feasible plan to disseminate the results of the assessment, planning and implementation activities to key stakeholders and to local communities.

Goals and Objectives (10 points)

The extent to which the project goals are relevant and the process or outcome objectives related to the assessment, planning and implementation activities are specific, achievable, measurable, time-linked and can be addressed through the proposed methods.

d. Statement of Need (15 points)

The extent to which the applicant describes the state health agency's current level of activities related to VAW issues.

The extent to which the applicant demonstrates the agency's commitment to planning and implementing effective and culturally competent initiatives addressing VAW, and its capacity to foster effective community collaborations to respond to emerging policy and program issues.

e. Goals and Objectives (10 points)

The extent to which the project goals are relevant and the process or outcome objectives related to the assessment, planning and implementation activities are specific, achievable, measurable, time-linked and can be addressed through the proposed methods.

f. Budget (reviewed, not scored)

The extent to which the budget is reasonable, clearly justified, and consistent with state objectives and proposed activities described in this announcement.

g. Measures of Effectiveness (reviewed, but not scored)

Applicants are required to provide Measures of Effectiveness that will demonstrate the accomplishment of the various identified objectives of the grant or cooperative agreement. Measures of Effectiveness must relate to the following NCIPC performance goals: (1) Reduce VAW and (2) enhance the capacity of states to implement effective rape prevention and education programs.

Measures must be objective and quantitative and must measure the intended outcome. These Measures of Effectiveness shall be submitted with the application and shall be an element of evaluation.

Part 2: Implementation

a. Workplan, Timeline and Staffing (35 points)

A detailed description of how staffing and planning resources will be allocated and used to accomplish each objective and the overall program goals.

The extent to which a clear workplan and timeline is included and provides for appropriate methods of assessment, planning, and implementation. Applicants should demonstrate how data is used in directing the activities to be implemented.

The extent to which the proposed workplan and timeline are realistic, given available resources. The extent to which the proposal identifies issues and implementation strategies that address specific challenges and barriers to VAW prevention efforts for priority populations such as, but not limited to, racial and ethnic or immigrant populations, gay and lesbian, elderly, rural or other “hard to reach” populations and women with disabilities.

b. Collaboration (25 points)

The extent to which the agencies, institutions and/or organizations who are named as members of the state advisory committee represent broad areas of expertise. Minimally this committee should include the state/territory/tribal agency's injury prevention department; the state or territory rape prevention and education coordinator; a representative from the state sexual assault coalition; a representative from the state domestic violence coalition; a representative from the state justice agency; and a representative from the state education department. A description of the roles and responsibilities of the member organizations, methods for making decisions, etc. should be included. The extent to which the letters of support from these organizations are included in an Appendix and demonstrate that the applicant and the other collaborating organizations have established a “working partnership” (e.g., all will have active roles in the project).

c. Statement of Need (15 points)

The extent to which the applicant describes the state health agency's current level of activities related to VAW issues. The extent to which the applicant demonstrates the agency's commitment to planning and implementing effective and culturally competent initiatives addressing VAW, and its capacity to foster effective community collaborations to respond to emerging policy and program issues. Describe the outcome or product of the previous VAW funding received under PA 99136 and 00119 and the extent to which that process informs this proposal.

d. Evaluation (15 points)

The extent to which the applicant has provided Measures of Effectiveness that will demonstrate the accomplishment of the various identified objectives of the cooperative agreement. The extent to which these measures are objective/quantitative and measure the intended outcome.

The extent to which there is a feasible plan to disseminate the results of the assessment, planning and implementation activities to key stakeholders and to local communities.

e. Goals and Objectives (10 points)

The extent to which the project goals are relevant and the process or outcome objectives related to the assessment, planning and implementation activities are specific, achievable, measurable, time-linked and can be addressed through the proposed methods.

f. Budget (reviewed, not scored)

The extent to which the budget is reasonable, clearly justified, and consistent with state objectives and proposed activities described in this announcement.

g. Measures of Effectiveness (reviewed, but not scored)

Applicants are required to provide Measures of Effectiveness that will demonstrate the accomplishment of the various identified objectives of the grant or cooperative agreement. Measures of Effectiveness must relate to the following NCIPC performance goals: (1) Reduce VAW and (2) enhance the capacity of states to implement effective rape prevention and education programs.

Measures must be objective and quantitative and must measure the intended outcome. These Measures of Effectiveness shall be submitted with the application and shall be an element of evaluation.

H. Other Requirements

Technical Reporting Requirements

Provide CDC with original plus two copies of—

1. Semi-annual progress reports (The progress report will include a data requirement that demonstrates measures of effectiveness).

2. Financial status report, no more than 90 days after the end of the budget period.

3. Final financial and performance reports, no more than 90 days after the end of the project period.

4. Applicants are required to provide Measures of Effectiveness that will demonstrate the accomplishment of the various identified objectives of the grant or cooperative agreement.

Send all reports to the Grants Management Specialist identified in the “Where to Obtain Additional Information” section of this announcement.

The following additional requirements are applicable to this program. For a complete description of each, see Attachment I of the application kit:

AR-9 Paperwork Reduction Act Requirements

AR-10 Smoke-Free Workplace Requirements

AR-11 Healthy People 2010

AR-12 Lobbying Restrictions

AR-13 Prohibition on Use of CDC Funds for Certain Gun Control Activities

I. Authority and Catalog of Federal Domestic Assistance Number

This program is authorized under section I.1]of the Public Health Service Act, [42 U.S.C. section [I.2]], as amended. The Catalog of Federal Domestic Assistance number is 93.136.

J. Where To Obtain Additional Information

In addition to the pre-application conference calls, CDC will provide a guidance document which addresses the program requirements, application content, and evaluation criteria. This guidance document is available as an attachment and also online at www.cdc.gov/ncipc.

If you have questions after the technical assistance conference call or with regards to the contents of all the documents, business management assistance may be obtained from: Angie Nation, Grants Management Branch, Procurement and Grants Office, Centers for Disease Control and Prevention, 2920 Brandywine Road, Suite 3000, Atlanta, GA 30341-4146, Telephone number: (770) 488-2719, E-mail address: aen4@cdc.gov.

For program technical assistance, contact: Jocelyn Wheaton, MPH, National Center for Injury Prevention and Control, Centers for Disease Control and Prevention, 4770 Buford Highway, NE, Mailstop K60, Atlanta, GA 30341-3724, Telephone number: (770) 488-1125, E-mail address: jwheaton@cdc.gov.

Dated: May 24, 2002.
Sandra R. Manning,
CGFM, Director, Procurement and Grants Office, Centers for Disease Control and Prevention.

[FR Doc. 02-13637 Filed 5-30-02; 8:45 am]

BILLING CODE 4163-18-P